DEPARTMENT OF AGRICULTURE

Forest Service

Fuel Reduction Activities Within the City of Bozeman's Municipal Watershed on the Gallatin National Forest and City of Bozeman Lands, MT Gallatin National Forest; Gallatin County, MT

AGENCY: Forest Service, USDA.

ACTION: Revised notice; intent to prepare environmental impact statement. The original notice was published in the Federal Register/Vol. 70, No. 200, October 18, 2005/notices, pages 60488-60489.

SUMMARY: On October 18, 2005, the USDA Forest Service announced its intent to prepare an environmental impact statement (EIS) to disclose the environmental effects of a proposed fuels reduction project in the municipal watershed of the City of Bozeman, Montana. This Revised Notice is being published because the projected date of June, 2006 for filing the Draft EIS with the U.S. Environmental Protection Agency (EPA) was not met and the Draft EIS is now expected to be filed in September of 2007.

The project's purpose and need is to begin reducing the potential severity and extent of future wildland fires in the Bozeman and Hyalite Municipal Watersheds, begin creating vegetation and fuel conditions that will reduce the risk of excess sediment and ash reaching the municipal water treatment plant in the event of a severe wildland fire, begin creating vegetation and fuel conditions that will provide for firefighter and public safety by modifying potential fire behavior, and reduce fuel conditions in the wildland/urban interface (WUI). A range of 3 to 5 alternatives are targeted for consideration in this planning process.

DATES: Initial comments on this proposal were received by November 11, 2005.

ADDRESSES: Written comments should be sent to Jim Devitt, Gallatin National Forest Supervisors Office, P.O. Box 130, Bozeman, Montana 59771-0130.

FOR FURTHER INFORMATION CONTACT: Jim Devitt, Bozeman Municipal Watershed Project Interdisciplinary Team Leader, Gallatin National Forest Supervisors Office, (406) 587-6749.

SUPPLEMENTARY INFORMATION: The need of this project, as identified by the Gallatin National Forest and the City of Bozeman, is to maintain a high-quality, long term, and predictable water supply for Bozeman area residents. The Bozeman Municipal Watershed analysis area is a landscape dominated by steep canyons and timbered slopes. The two drainages are very popular and receive heavy use for outdoor recreation activities such as pleasure driving, hiking, biking, camping, picnicking, fishing, and hunting, to name a few. The Bozeman Municipal Water project will apply to portions of National Forest System Lands and City of Bozeman land within the Bozeman and Hyalite Watersheds. There are several homes and sub-divisions within one half mile of the forest boundary or within the WUI. Fire simulation models showed that a large fire started in either Bozeman Creek or Hyalite Creek could easily burn into the adjacent drainage, resulting in a situation where both major sources of city water supply are simultaneously impacted. The Forest Service and City of Bozeman believe it is timely to begin addressing this project's purpose. The purpose and need for this project would be achieved by: (1) Partial harvesting and thinning in about 2,200 acres of mature timber stands. Ground based, skyline, and helicopter harvest systems would be used to implement this harvest and thinning.

(2) Mechanical cutting and piling of younger, small diameter trees on about 1,150 acres. Hand piling would be used in some places.

(3) Prescribed burning in the thinned stands after harvest or cutting.

(4) Broadcast burning in less dense stands of timber.

To facilitate public comment, the Forest Service prepared a scoping document. This document identified one possible set of treatment options and can be viewed on the Gallatin National Forest Web site at www.fs.fed.us/r1/gallatin. A copy can also be obtained by calling or writing the contact person identified above.

The Draft EIS was originally expected to be filed with the Environmental Protection Agency (EPA) and available for public review in June of 2006. That time period was not met and the Draft EIS is now expected to be filed with the EPA in September of 2007. At that time, the EPA will publish a Notice of Availability of the Draft EIS in the Federal Register. The comment period on the Draft EIS is estimated to be 45 days from the date the EPA's notice of availability appears in the Federal Register. The Final EIS is scheduled for completion in the spring of 2008.

To assist the Forest Service in identifying and considering issues, comments should be specific to concerns associated with fuel reduction activities within a municipal watershed. Reviewers may wish to refer to the Council on Environmental Quality Regulations for implementing the procedural provisions of the National Environmental Policy Act at 40 CFR 1503.3 in structuring comments.

The Forest Service believes, at this stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate during comment periods provided so that substantive comments and objections are made available to the Forest Service at a time when they can meaningfully consider them. To assist the Forest Service in identifying and considering issues, comments should be specific to concerns associated with the management of roads and trails on the Gallatin National Forest. Reviewers may wish to refer to the Council on Environmental Quality Regulations for implementing the procedural provisions of the National Environmental Policy Act at 40 CFR 1503.3 in structuring comments.

I am the responsible official for this Environmental Impact Statement and the ultimate decision for a Bozeman Watershed Project. My address is Forest Supervisor, Gallatin National Forest, P.O. Box 130, Federal Building, Bozeman, MT 59771.

Dated: August 3, 2007.
John Allen,
Deputy Forest Supervisor.

[FR Doc. 07-3922 Filed 8-10-07; 8:45 am]

BILLING CODE 3410-11-M